SMALL BUSINESS ADMINISTRATION

Advisory Committee on Veterans Business Affairs; Public Meeting

The SBA Advisory Committee on Veterans Business Affairs

The U.S. Small Business Administration (SBA), pursuant to the Veterans Entrepreneurship and Small Business Development Act of 1999 (Pub. L. 106-50), will be hosting its first Advisory Committee meeting on Veterans Business Affairs for Fiscal Year 2004. The meeting will be held on March 1-2, 2004 from 9 am-5 pm and on March 3, 2004 from 9 a.m.-12 p.m. in the Eisenhower Conference Room. The conference room is located on the 2nd Floor-Side B, at SBA Headquarters, 409 3rd Street SW., Washington, DC, 20416. If you have any questions regarding this meeting, please contact Cheryl Clark in the Office of Veterans Business development at (202) 205-6773.

Matthew Becker,
Committee Management Officer.

[FR Doc. 04-3473 Filed 2-17-04; 8:45 am]

BILLING CODE 8025-01-P